SECURITIES AND EXCHANGE COMMISSION

Submission for OMB Review; Comment Request

Upon Written Request, Copies Available From: Securities and Exchange Commission, Office of Filings and Information Services, Washington, DC 20549

Extension:

Form 3, OMB Control No. 3235-0104, SEC File No. 270-125

Form 4, OMB Control No. 3235-0287, SEC File No. 270-126

Form 5, OMB Control No. 3235-0362, SEC File No. 270-323

Notice is hereby given that pursuant to the Paperwork Reduction Act of 1995 (44 U.S.C. 3501 et seq.) The Securities and Exchange Commission (“Commission”) has submitted to the Office of Management and Budget requests for extension of the previously approved collections of information discussed below.

Forms 3, 4, and 5 are filed by insiders of public companies that have a class of securities registered under section 12 of the Securities Exchange Act of 1934 (“Exchange Act”). Form 3 is an initial statement of beneficial ownership of securities, Form 4 is a statement of changes in beneficial ownership of securities and Form 5 is an annual statement of beneficial ownership of securities. Approximately 29,000 issuers file form 3 for a total of 14,500 annual burden hours. Approximately 70,204 issuers file Form 4 annually for a total of 34,102 annual burden hours. Approximately 43,500 issuers file Form 5 annually for a total of 43,500 annual burden hours.

Form 3, Form 4, and Form 5 information collections are mandatory and available to the public upon request. Finally, persons who respond to these collections are not required to respond unless the collections of information display a currently valid control number.

Written comments regarding the above information should be directed to the following persons: (i) Desk Officer for the Securities and Exchange Commission, Office of Information and Regulatory Affairs, Office of Management and Budget, Room 10102, New Executive Office Building, Washington, DC 20503; and (ii) Michael E. Bartell, Associate Executive Director, Office of Information Technology, Securities and Exchange Commission, 450 Fifth Street, NW., Washington, DC 20549. Comments must be submitted to OMB within 30 days of this notice.

Dated: October 19, 2001.
Margaret H. McFarland,
Deputy Secretary.

[FR Doc. 01-27126 Filed 10-26-01; 8:45 am]

BILLING CODE 8010-01-M